DEPARTMENT OF COMMERCE

National Oceanic and Atmospheric Administration

[RTID 0648-XA257]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an application submitted by the Gulf of Maine Research Institute to amend an existing Exempted Fishing Permit contains all of the required information and warrants further consideration. The amended Exempted Fishing Permit would provide one vessel participating in an electronic monitoring program with an exemption to conduct exploratory fishing using cod ends with smaller mesh than otherwise permitted. The Exempted Fishing Permit would test the effect of different codend mesh combinations on the catch of pollock and Gulf of Maine haddock while on trips targeting Acadian redfish. Regulations under the Magnuson-Stevens Fishery Conservation and Management Act require publication of this notification to provide interested parties the opportunity to comment on applications for proposed exempted fishing permits.

DATES: Comments must be received on or before November 17, 2020.

ADDRESSES: You may submit written comments by either of the following methods:

• Email: nmfs.gar.efp@noaa.gov. Include in the subject line “GMRI MREM EFP Amendment.”

• Mail: Michael Pentony, Regional Administrator, NMFS, Greater Atlantic Regional Fisheries Office, 55 Great Republic Drive, Gloucester, MA 01930. Mark the outside of the envelope “GMRI MREM EFP Amendment.”

Copies of the supplemental information report (SIR) developed in support of this project may be obtained by contacting Claire Fitz-Gerald, Fishery Policy Analyst at the Greater Atlantic Regional Fisheries Office, 978-281-9255.

FOR FURTHER INFORMATION CONTACT: Mark Grant, Fishery Policy Analyst, 978-281-9145.

SUPPLEMENTARY INFORMATION: On August 1, 2020, NMFS granted an Exempted Fishing Permit (EFP) to the Gulf of Maine Research Institute to continue developing a maximized retention electronic monitoring (MREM) model and an accompanying dockside monitoring (DSM) program to monitor high-volume bottom-trawl vessels in the groundfish fleet. For more information on the details of the EFP see the notice published April 9, 2020 (85 FR 19931). The Gulf of Maine Research Institute, in conjunction with the Northeast Sector Service Network and a commercial fishing business, has submitted an application to amend the EFP. The amended EFP would allow one vessel participating in the MREM program an additional exemption from the minimum mesh size requirements for the Gulf of Maine and Georges Bank regulated mesh areas codified at 50 CFR 648.80(a)(3)(i) and (a)(4)(i) to use cod ends with either square or diamond mesh as small as 4.5 inches (11.4 cm). The exemption would be used to conduct exploratory fishing to increase the catch of pollock and Gulf of Maine haddock while on trips targeting Acadian redfish. This EFP would be effective for the 2020 and 2021 fishing years, through April 30, 2022. Because using alternative codend configurations to target haddock and pollock on trips targeting Acadian redfish is outside of the scope of the project as currently approved, we are taking public comment on the revision request.

Because vessels are fully monitored, participating vessels are granted exemptions to incentivize participation in the project and increase fishing opportunities for healthy stocks. The current MREM EFP allows vessels to use the codend configuration used in the Canadian haddock fishery (5.1-inch (13.0-cm) square mesh codend with a haddock separator device or Ruhle trawl) on Georges Bank and/or the codend configuration tested in the REDNET project (4.5-inch (11.4-cm) diamond mesh codend). The latter mesh size is restricted to the Redfish Exemption Area and all standard sector exemption requirements still apply. These exemptions are intended to improve size selectivity and increase catch of target species, while avoiding groundfish species of concern. The requested amendment to the EFP would allow a single high-volume trawler to test additional codend mesh configurations to increase catch of pollock and Gulf of Maine haddock, two healthy stocks that are underutilized, while targeting Acadian redfish. Accordingly, the participating vessel would be exempt from the geographic area, gear configuration requirements, and bycatch thresholds associated with the redfish exemption. The vessel would have cameras recording on 100 percent of groundfish trips and all catch would be counted against the appropriate sector allocations.

The participating vessel could use the alternative codend configurations to increase the catch of pollock and Gulf of Maine haddock while targeting Acadian redfish in an expanded geographic area (see Figure 1 and Table 1) encompassing deep-water portions of the Gulf of Maine and the northern portion of Georges Bank.

The applicants requested to operate in this geographic area (where the redfish exemption was permitted in fishing years 2015-2019) to test the feasibility of using alternative codend configurations to increase the catch of legal size pollock and Gulf of Maine haddock while on trips targeting Acadian redfish. Unlike trips under the current redfish exemption, which is authorized in a different geographic area during fishing year 2020, the intent of this EFP amendment is to conduct exploratory fishing and any promising codend configurations could then be further evaluated in a rigorous experiment for possible future management consideration.

The area is bounded on the east by the U.S.-Canada Maritime Boundary, and bounded on the north, west, and south by the coordinates in Table 1, connected by straight lines in the order listed.

Table 1—Area Coordinates
Point | N lat. | W long.
A | 44°27.25′ | 67°02.75′
B | 44°16.25′ | 67°30.00′
C | 44°04.50′ | 68°00.00′
D | 43°52.25′ | 68°30.00′
E | 43°40.25′ | 69°00.00′
F | 43°28.25′ | 69°30.00′
G | 43°00.00′ | 69°30.00′
H | 43°00.00′ | 70°00.00′
I | 42°00.00′ | 70°00.00′
J | 42°00.00′ | ¹ 67°00.63′
¹ The intersection of 42°00′ N latitude and the U.S.-Canada Maritime Boundary, approximate longitude in parentheses.

Due to concerns about Gulf of Maine cod bycatch, the mesh size exemption would not be used in 30-minute square 131 during the months of February and March. The area is bounded on the east, north, west, and south by the coordinates in Table 2, connected by straight lines in the order listed.

Table 2—Seasonal Closure Coordinates
Point | N lat. | W long.
G | 43°00.00′ | 69°30.00′
H | 43°00.00′ | 70°00.00′
K | 42°30.00′ | 70°00.00′
L | 42°30.00′ | 69°30.00′
G | 43°00.00′ | 69°30.00′

While fishing in the MREM program, the participating vessel's groundfish trips will be conducted under the EM requirements of the parent MREM EFP, but will have catch data evaluated separately from other trips taken under the MREM program or the sector redfish exemption. The REDNET program demonstrated it was possible to harvest redfish using a 4.5-inch (11.4-cm) diamond mesh codend without substantial catch of undersized redfish or other commercially important groundfish species. Pollock was the main bycatch species in that study and the intent of this EFP is to increase the catch of pollock and Gulf of Maine haddock because they are underutilized healthy stocks. Other gear studies in this region have demonstrated that square mesh selects for larger individuals of roundfish species than diamond mesh of the same size. By experimentally fishing with different combinations of codend mesh the applicants hope to determine if any combination effectively increases catch of the underharvested healthy stocks without negatively affecting other stocks. Any promising combinations could be further evaluated through a subsequent rigorous scientific study.

In addition to the standard redfish sector exemption, vessels fishing under the MREM EFP are permitted to use a 5.1-inch (13-cm) square mesh codend in tandem with a haddock separator device or Ruhle trawl (similar to the configuration used in Canada) on Georges Bank, or a 4.5-inch (11.4-cm) diamond mesh codend (based on the REDNET project) when fishing under the redfish exemption. The 5.1-inch (13-cm) square mesh exemption is intended to increase the catch of haddock, while the 4.5-inch (11.4-cm) diamond mesh exemption is intended to increase the efficiency of reddfish catch.

Similar to redfish, pollock and Gulf of Maine haddock are healthy stocks that have been underharvested in recent years. These two stocks are sometimes encountered with schools of redfish around the steep ledges in the Gulf of Maine. According to the application, the rocky bottom in this area is incompatible with the separator and Ruhle trawls. Further, the application asserts that 4.5-inch (11.4-cm) diamond mesh is effective at retaining redfish, but allows legal-sized haddock to escape. Mesh selectivity information shows that the 50-percent retention rate for haddock of the minimum size (16 inches; 40.6 cm) in square mesh is approximately 4.5 inches (11.4 cm). This EFP amendment would both: Expand the MREM program to refine and test on-board handling requirements, dockside monitoring protocols, and video review for high volume vessels; and conduct exploratory fishing to test the potential for alternative gear configurations to provide additional opportunities to target healthy stocks.

The applicants anticipate that during fishing year 2020 the participating vessel will conduct approximately 25-30 multiday trips in the requested area. Typical trips would be 7 to 10 days in duration with 5 to 8 days of fishing on each trip. The estimated catch provided in the application, based on previous performance of the subject vessel, is in Table 3.

Table 3—Catch Composition Estimates
Species | Estimated annual catch in live lb (kg): Legal-sized catch | Estimated annual catch in live lb (kg): Sub-legal size catch
Acadian Redfish | 1,250,000 (2,750,000) | 14,265 (31,383)
American Plaice | 2,000 (4,400) | 5,370 (11,814)
Atlantic Cod | 8,036 (11,679) | 744 (1,637)
Gulf of Maine Cod | 893 (1,965) | 176 (387)
Georges Bank West Cod | 7,143 (15,715) | 568 (1,250)
Georges Bank East Cod | 0 (0) | 0 (0)
Atlantic Halibut | 150 (330) | 250 (550)
Atlantic Wolffish | 0 (0) | 36 (79)
Haddock | 750,000 (1,650,000) | 3,742 (8,232)
Ocean Pout | 0 (0) | 1 (2)
Pollock | 500,000 (1,100,000) | 1,541 (3,390)
White Hake | 8,929 (19,643) | 0 (0)
Witch Flounder | 3,571 (7,856) | 674 (1,483)
Windowpane Flounder | 0 (0) | 0 (0)
Winter Flounder | 1,500 (3,300) | 0 (0)
Yellowtail Flounder | 100 (220) | 0 (0)

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: October 27, 2020.
Jennifer M. Wallace,
Acting Director, Office of Sustainable Fisheries, National Marine Fisheries Service.

[FR Doc. 2020-24206 Filed 10-30-20; 8:45 am]

BILLING CODE 3510-22-P